DEPARTMENT OF ENERGY

[OE Docket No. EA-409-A]

Application To Export Electric Energy; Saracen Power LP

AGENCY: Office of Electricity, Department of Energy.

ACTION: Notice of application.

SUMMARY: Saracen Power LP (Applicant or Saracen) has applied to renew its authorization to transmit electric energy from the United States to Canada pursuant to the Federal Power Act.

DATES: Comments, protests, or motions to intervene must be submitted on or before May 20, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On June 18, 2015, DOE issued Order EA-409, which authorized Saracen to transmit electric energy from the United States to Canada as a power marketer for a five-year term using existing international transmission facilities appropriate for open access. The authorization expires on June 18, 2020. On March 31, 2020, Saracen filed an application (Application or App.) with DOE for renewal of the export authorization contained in Order No. EA-409.

Saracen states that it is a “Texas limited partnership with its principal place of business in Houston, Texas,” that it “is controlled by Saracen Energy Trading LP (“SET”), a Texas limited partnership and the sole general partner of Saracen Power LP,” and that “[t]he general partner of SET is SET GP LLC, a Texas limited liability company that in turn is owned by individuals Neil Kelley and Mark Wilken.” App. at 2. The Applicant further states that it “will purchase the power to be exported to Canada from wholesale generators, electric utilities, and federal power marketing agencies.” Id. at 3. Saracen contends that its proposed exports “will not impair or tend to impede the sufficiency of electric power supplies in the United States or the regional coordination of electric utility planning or operations.” Id. at 4.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Saracen's application to export electric energy to Canada should be clearly marked with OE Docket No. EA-409-A. Additional copies are to be provided directly to Allison P. Duensing, General Counsel, The Saracen Group of Companies, 3033 W Alabama St., Houston, TX 77098, aduensing@saracenenergy.com and Daniel E. Frank & Allison E. Speaker, Eversheds Sutherland (US) LLP, 700 Sixth St. NW, Suite 700, Washington, DC 20001-3980, danielfrank@evershedssutherland.com, allisonspeaker@eversheds-sutherland.com.

A final decision will be made on this Application after the environmental impacts have been evaluated pursuant to DOE's National Environmental Policy Act Implementing Procedures (10 CFR part 1021) and after DOE determines that the proposed action will not have an adverse impact on the sufficiency of supply or reliability of the U.S. electric power supply system.

Copies of this Application will be made available, upon request, by accessing the program website at http://energy.gov/node/11845, or by emailing Matthew Aronoff at matthew.aronoff@hq.doe.gov.

Signed in Washington, DC, on April 14, 2020.
Christopher Lawrence,
Management and Program Analyst, Transmission Permitting and Technical Assistance, Office of Electricity.

[FR Doc. 2020-08191 Filed 4-17-20; 8:45 am]

BILLING CODE 6450-01-P